EXPORT-IMPORT BANK

Sunshine Act Meetings

FEDERAL REGISTER CITATION OF PREVIOUS ANNOUNCEMENT: 84 FR 59619.

PREVIOUSLY ANNOUNCED TIME AND DATE OF THE MEETING: Friday, November 22, 2019 at 9:00 a.m.

CHANGES IN THE MEETING: The open portion of the November 22, 2019 meeting of the Board of Directors of the Export-Import Bank of the United States, held at Ex-Im Bank in Room 1126, 811 Vermont Avenue NW, Washington, DC 20571, has been cancelled.

CONTACT PERSON FOR MORE INFORMATION: Members of the public who wish to attend the meeting should call Joyce Stone, Office of the General Counsel, 811 Vermont Avenue NW, Washington, DC 20571 (202) 565-3336 by close of business Tuesday, November 19, 2019.

Joyce Brotemarkle Stone,
Assistant Corporate Secretary.

[FR Doc. 2019-24731 Filed 11-12-19; 11:15 am]

BILLING CODE 6690-01-P